FEDERAL COMMUNICATIONS COMMISSION

Public Information Collections Approved by Office of Management and Budget

March 13, 2001.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0056.

Expiration Date: 09/30/2001.

Title: Part 68—Connection of Terminal Equipment to the Telephone Network.

Form No.: FCC Form 730.

Respondents: Business or other for-profit; Individuals or household.

Estimated Annual Burden: 54,369 respondents; .5 minutes—20 hours per respondent; 2.2 hours per response (avg.); 120,459 total annual burden hours.

Estimated Annual Reporting and Recordkeeping Cost Burden: $2,705,000.

Frequency of Response: On occasion; Recordkeeping; Third Party Disclosure.

Description: In the Telecommunications Act of 1996 (1996 Act), Congress directed the Commission to review its rules every even-numbered year and repeal or modify those found to be no longer in the public interest. Consistent with the directive of Congress, in the year 2000, the Commission undertook its second comprehensive biennial review of the Commission's rules to eliminate regulations that are no longer necessary because the public interest can be better served through reliance on market forces. In a Report and Order issued in CC Docket No. 99-216, Biennial Regulatory Review of Part 68 of the Commission's Rules and Regulations, released December 21, 2000 (Order), the Commission completely eliminate significant portions of Part 68 of our rules governing the connection of customer premises equipment (terminal equipment) to the public switched telephone network and privatize the standards development and terminal equipment approval processes. Specifically, in the Commission transferred responsibility for developing technical criteria to Standards Development Organizations (SDOs) that are accredited by the American National Standards Institute (ANSI), and the responsibility for compiling and publishing all standards ultimately adopted as technical criteria for terminal equipment to the Administrative Council for Terminal Attachments (Administrative Council). The Commission maintains its rules' broad principles, including a proscription against causing any of four harms to the public switched telephone network by the direct connection of terminal equipment. Once the Administrative Council publishes the technical criteria, the Commission shall presume the criteria to be valid for the prevention of the harms to the public switched telephone network by terminal equipment interconnection, subject to de novo review by petition to this Commission. Conformance with the technical criteria will be considered a demonstration of compliance with the Commission's rules prohibiting terminal equipment from harming the public switched telephone network. Terminal equipment manufacturers either will submit their products to telecommunications certification bodies (TCBs) for certification of conformity with the technical criteria (instead of submitting them for registration with the Commission), or they will use the Commission's Supplier's Declaration of Conformity (SDoC) process to show conformity with the technical criteria. This process will be more efficient and responsive to the needs of all segments of the industry, and remove the Commission from role where governmental involvement is no longer necessary or in the public interest. Following is a summary of the collections contained in the Order and 47 CFR part 68. See the Order and 47 CFR part 68 for additional information.

a. FCC Form 730 and associated requirements—Currently, under rule 68.102 manufacturers must register terminal equipment. FCC Form 730 is used to obtain registration of telephone equipment pursuant to part 68 of the Commission's rules. In addition to filing the form, applicants are required to submit exhibits and other informational showings specified by part 68.

The Commission will cease accepting applications for registration of part 68 equipment and transfer responsibility for establishing and maintaining the database of approved equipment to the Administrative Council when the Council publishes the technical criteria as required by the Order. While continued use of the FCC Form 730 is permitted, the Commission only requires that the database contain sufficient information for providers of telecommunications, this Commission and the U.S. Customs Service to carry out their functions. (No. of respondents: 2400; hours per response: 24 hours; total annual burden: 57,600 hours).

b. Section 68.105, Minimum Point of Entry and Demarcation Point—Pursuant to Section 68.105, at the time of installation, providers of wireline telecommunications must fully inform the premise owner of its options and rights regarding the placement of the demarcation point or points. The provider of wireline telecommunications services must make available information on the location of the demarcation point within ten business days of a request from the premises owners. (No. of respondents: 50,000; hours per response: .05 hours; total annual burden: 2500 hours).

c. Section 68.106—Notification to Provider of Wireline Telecommunications—Section 68.106 requires customers connecting terminal equipment or protective circuitry to the public switched telephone network shall, upon request of the provider of wireline telecommunications inform the provider of wireline telecommunications of the particular line(s) to which such connection is made, and any other information required to be placed on that terminal equipment pursuant to Section 68.354. Customers connecting systems assembled of combinations of individually-approved terminal equipment and protective circuitry shall provide, upon the request of the provider of wireline telecommunications, provide the information delineated in Section 68.106(b)(i)-(iv). Customers who intend to connect premises wiring other than fully protected premises wiring to the public switched telephone network shall, in addition to the requirements in Section 68.106(b), give notice to the provider of wireline telecommunications in accordance with Section 68.215(e). (No. of respondents: 50,000; hours per response: .05 hours; total annual burden: 2500 hours).

d. Section 68.108, Notification of Incidence of Harm—Section 68.108 requires that providers of wireline telecommunications notify the customer that temporary discontinuance of service may be required should terminal equipment, inside wiring, plugs and jacks, or protective circuitry cause harm to the public switched telephone network or should the provider reasonably determine that such harm is imminent. (No. of respondents: 7500; hours per response: 0.5 hours; total annual burden: 750 hours).

e. Section 68.110, Disclosure of Technical Information—Section 68.110(a) requires provider of wireline telecommunications to provide, upon request, technical information concerning interface parameters not specified by the technical criteria published by the Administrative Council for Terminal Attachments that are needed to permit terminal equipment to operate in a manner compatible with the communications facilities of a provider of wireline telecommunications. Section 68.110(b) requires that a provider of wireline telecommunications give the customer adequate notice in writing if changes can be reasonably expected to render any customer's terminal equipment incompatible with the communications facilities of the provider of wireline telecommunications, or require modification or alteration of such terminal equipment, or otherwise materially affect its use or performance. (No. of respondents: 40; hours per response: .50 hours; total annual burden: 20 hours). Section 68.110(c) requires provider of wireline telecommunications to provide building owners with all available information regarding carrier-installed wiring on the customer's side of the demarcation point, including copies of existing schematic diagrams and service records. (No. of respondents: 200, with 1200 responses; hours per response: 1 hours; total annual burden: 1200 hours).

f. Section 68.215, Notarized Affidavit—Section 68.215 requires that a notarized affidavit and one copy thereof be prepared by the installation supervisor in advance of each operation associated with the installation, connection, reconfiguration and removal of other than fully-protected premises wiring (except when accomplished functionally using a cross-connect panel), except when involved with removal of the entire premises communications systems using such wiring. The affidavit and its copy must contain the information specified in 47 CFR 68.215(e)(1)-(9). (No. of respondents: 7500; hours per response: .50 hours; total annual burden: 3750 hours).

g. Section 68.218, Compliance Warrants—Section 68.218 requires that the responsible party warrants that each unit of equipment marketed under such authorization will comply with all applicable rules and regulations of Part 68 and with the applicable technical criteria of the Administrative Council for Terminal Attachments. (No. of respondents: 974, with 2350 responses; hours per response: .5 hours; total annual burden: 1175 hours).

h. Section 68.324, Supplier's Declaration of Conformity—Section 68.324(a)(1)-(6) lists the information that each responsible party must include in the Supplier's Declaration of Conformity.(No. of respondents: 974, with 2350 responses; hour per response: 20 hours; total annual burden: 47,000 hours).

i. Section 68.326, Retention of Records—Section 68.326 requires that responsible party for a Supplier's Declaration of Conformity maintains records containing the information specified in Section 68.326(a)(1)-(4) for at least ten years after the manufacture of said equipment has been permanently discontinued, or until the conclusion of an investigation or a proceeding, if the responsible party is officially notified prior to the expiration of such ten year period that an investigation or any other administrative proceeding involving its equipment has been instituted, whichever is later. See 47 CFR 68.326. (No. of respondents: 974, with 2350 responses; hours per response: .5 hours; total annual burden: 1175 hours).

j. Section 68.346, Description of Testing Facilities—Section 68.346 requires that each responsible party for equipment that is subject to a Supplier's Declaration of Conformity compiles and retains a description of the measurement facilities employed for testing the equipment. The description shall contain the information required by the Administrative Council for Terminal Attachments. See 47 CFR section 68.346. (No. of respondents: 974, with 2350 responses; hours per response: .25 hours; total annual burden: 587 hours).

k. Section 68.354, Numbering and Labeling Requirements—Section 68.354 requires that terminal equipment and protective circuitry that is subject to a Supplier's Declaration of Conformity or that is certified by a Telecommunications Certification Body have labels in a place and manner required by the Administrative Council for Terminal Attachments. Terminal equipment labels shall include an identification numbering system in a manner required by the Administrative Council for Terminal Attachments. FCC numbering and labeling requirements existing prior to the effective date of these rules shall remain unchanged until the Administrative Council for Terminal Attachments publishes its numbering and labeling requirements. See 47 CFR 68.354. See also 47 CFR 68.612. (No. of respondents: 974, with 2350 responses: .25 hours; total annual burden: 587 hours).

l. Sections 68.400-68.417, Complaints. A complaint must be in writing and contain the information specified in Section 68.400(a)-(d). (No. of respondents: 5; hours per response: 20 hours; total annual burden: 20 hours).

m. Section 68.418, Designation of Agents for Service—Pursuant to Section 68.418, every responsible party of equipment approved pursuant to Part 68 must designate and identify one or more agents upon whom service may be made of all notices, inquiries, orders, decisions, and other pronouncements of the Commission in any matter before the Commission. See 47 CFR Section 68.418. (No. of respondents: 974, with 2350 responses: hours per response: .1 hour; total annual burden: 235 hours).

n. Section 68.419, Answers to Informal complaints—Section 68.419 requires that any responsible party to whom the Commission or the Consumer Information Bureau directs an informal complaint file an answer within the time specified by the Commission or the Consumer Information Bureau, as required by in Section 68.419(a)-(e). (No. of respondents: 5; hours per response: 20 hours; total annual burden: 100 hours).

o. Section 68.604, Requirements for submitting technical criteria—Any SDO that submits standards to the Administrative Council for Terminal Attachments for publication as technical criteria shall certify to the Administrative Council for Terminal Attachments the information found in Section 68.604(c)(1)-(3). See 47 CFR Section 68.604. (No. of respondents: 5, with 10 responses; hours per burden: 5 hours; total annual burden: 5 hours).

p. Section 68.610, Database of Terminal Equipment—Section 68.610 requires that the Administrative Council for Terminal Attachments operates and maintains a database of all approved terminal equipment. (No. of respondents: 974, with 2350 responses; hours per response: .5 hours; total annual burden: 1175 hours). To ensure that consumers, providers of telecommunications, the Administrative Council, TCBs, and the Commission are able to trace products to the party responsible for placing terminal equipment on the market, it is essential to require manufacturers and suppliers to provide the information specified in the Order and 47 CFR Part 68.

Authority: 47 U.S.C. §§ 151-154; 47 U.S.C. § 201-205; 47 U.S.C. § 303. Obligation to respond: Required to obtain or retain benefits.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 01-6972 Filed 3-20-01; 8:45 am]

BILLING CODE 6712-01-P